DEPARTMENT OF LABOR

Occupational Safety and Health Administration

Freedom of Information Act; Notice of Lawsuit

AGENCY: Occupational Safety and Health Administration (OSHA), Department of Labor.

ACTION: Notice of lawsuit; solicitation of information.

SUMMARY: OSHA seeks information about potential objections to public release of sampling data.

DATES: Comments must be submitted by the following dates:

Hard copy: Your comments must be submitted (postmarked or received) by May 22, 2006.

Facsimile and electronic transmission: Your comments must be received by May 22, 2006.

ADDRESSES: You may submit comments by any of the following methods:

Regular mail, express delivery, hand delivery, and messenger service: Submit your comments and attachments to: Kevin Ropp, Director, OSHA Office of Communications, Room N-3647, U.S. Department of Labor, 200 Constitution Avenue, NW., Washington, DC 20210; telephone (202) 693-1999, (OSHA's TTY number is (877) 889-5627), Office of Communication and Department of Labor hours are: 8:15 a.m. to 4:45 p.m., e.t.

Facsimile: If your comments are 10 pages or fewer in length, including attachments, you may fax them to Kevin Ropp at (202) 693-1635.

Electronic: You may submit comments through the Internet at: http://ecomments.osha.gov. For submitting comments electronically follow instructions for submitting comments on the OSHA Web page at http://www.OSHA.gov.

FOR FURTHER INFORMATION CONTACT: Kevin Ropp, Director, OSHA Office of Communications, Room N-3647, U.S. Department of Labor, 200 Constitution Avenue, NW., Washington, DC 20210; telephone: (202) 693-1999 or fax: (202) 693-1635.

SUPPLEMENTARY INFORMATION:

I. Background

This notice pertains to all employers that were subject to air sampling by the Occupational Safety and Health Administration (“OSHA”) from 1979 to June 1, 2005. On November 22, 2005, the Department was sued in the United States District Court for the District of New Jersey under the Freedom of Information Act (FOIA) to compel the disclosure of all air sampling data that OSHA collected nationwide from 1979 to June 1, 2005. Adam M. Finkel v. United States Department of Labor, Occupational Safety and Health Administration, No. 3:05-cv-05525-MLC-TJB. This notice is required by 29 CFR 70.26(h). A complete response to this FOIA request would result in the public disclosure of sampling records located at OSHA's Salt Lake City Technical Center, which processes workplace samples taken by OSHA compliance officers during onsite compliance visits.

II. Issues for Comment

The FOIA request seeks information concerning all samples taken by OSHA from 1979 to June 1, 2005. Information requested for each sample includes the establishment name and address; the identity of the substances sample; the sample type (personal, bulk, area, wipe, etc.); the numerical results of the sample analysis; and other information. OSHA hereby solicits comments from affected employers in order to determine whether public release, in a form that identifies specific employers or workplaces, of sampling data that indicates chemical identities and the use or presence of particular chemicals or substances, would disclose confidential commercial or trade secret information.

Signed at Washington, DC this 17th day of April, 2006.
Edwin G. Foulke, Jr.,
Assistant Secretary of Labor.

[FR Doc. 06-3795 Filed 4-20-06; 8:45 am]

BILLING CODE 4510-26-M